Title 3—

The President

Memorandum of March 23, 2007

Assignment of Functions Under Section 530 of the Foreign Relations Authorization Act for Fiscal Years 1994 and 1995, and Section 2(b)(4) of the Export-Import Bank Act of 1945, as Amended

Memorandum for the Secretary of State

By the authority vested in me as President by the Constitution and laws of the United States of America, including section 301 of title 3 of the United States Code, I hereby assign to you:

(1)the functions of the President under section 530 of the Foreign Relations Authorization Act for Fiscal Years 1994 and 1995 (Public Law 103-236) (22 U.S.C. 2429a-2); and

(2)the functions of the President under section 2(b)(4) of the Export-Import Bank Act of 1945, as amended (12 U.S.C. 635).

You are authorized and directed to publish this memorandum in the Federal Register.

[FR Doc. 07-1822

Filed 4-10-07; 8:45 am]

Billing code 4710-10-P